COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities, and deletes products previously furnished by such agency.

DATES: Comments must be received on or before September 17, 2017.

ADDRESSES: Committee for Purchase From People Who Are Blind or Severely Disabled, 1401 S. Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN(s)—Product Name(s):

7045-01-515-5371—Disk, Media, Recordable, Branded Attributes, Rewriteable, DVD-RW, 4X, Jewel Case, 5 Pack Spindle

7045-01-515-5372—Disk, Media, Recordable, Branded Attributes, DVD-R, 16X, 25 Pack Spindle

7045-01-515-5373—Disk, Media, Recordable, Branded Attributes, Rewriteable, DVD+RW, 4X, 25 Pack Spindle

7045-01-515-5374—Disk, Media, Recordable, Branded Attributes, DVD+R, 16X, 25 Pack Spindle

7045-01-515-5375—Disk, Media, Recordable, Branded Attributes, CD-R, 52X, 100 Pack Spindle

Mandatory for: Total Government Requirement

Mandatory Source(s) of Supply: North Central Sight Services, Inc., Williamsport, PA

Contracting Activity: General Services Administration, New York, NY

Distribution: A-List

Service

Service Type: Sourcing, Warehousing, Assembly and Kitting Service

Mandatory for: Army National Guard Recruiting and Retention Command, Houston Barracks, Nashville, TN

Mandatory Source(s) of Supply: Industries for the Blind, Inc., West Allis, WI

Contracting Activity: DEPT OF THE ARMY, W7N1 USPFO ACTIVITY TN ARNG

Deletions

The following products are proposed for deletion from the Procurement List:

Products

NSN(s)—Product Name(s):

8415-00-NSH-0489—Drawers and Undershirt (Collarless), Chem. Protect

8415-00-NSH-0490—Drawers and Undershirt (Collarless), Chem. Protect

Mandatory Source(s) of Supply: Peckham Vocational Industries, Inc., Lansing, MI

Contracting Activity: Defense Logistics Agency Troop Support

NSN(s)—Product Name(s):

8920-01-E60-7859—Pancake and Waffle Mix, Buttermilk; 50 lb bag

8920-01-E60-7861—Pancake Mix, Regular

8920-01-E60-7862—Pancake and Waffle Mix, Regular; 25 lb bag

8920-01-E60-7863—Pancake and Waffle Mix, Regular; 50 lb bag

Mandatory Source(s) of Supply: Transylvania Vocational Services, Inc., Brevard, NC

Contracting Activity: Defense Logistics Agency Troop Support

NSN(s)—Product Name(s):

6530-00-783-7205—Litter, Folding, Rigid Pole, Decontaminable

Mandatory Source(s) of Supply: Arizona Industries for the Blind, Phoenix, AZ

Contracting Activity: Defense Logistics Agency Troop Support

Amy B. Jensen,
Director, Business Operations.

[FR Doc. 2017-17520 Filed 8-17-17; 8:45 am]

BILLING CODE 6353-01-P